DEPARTMENT OF ENERGY

Federal Energy Regulatory Commission

[Docket Nos. ER04-457-001, ER04-457-002, and EL05-60-000]

PJM Interconnection, L.L.C.; Notice of Institution of Proceeding and Refund Effective Date

February 15, 2005.

On February 10, 2005, the Commission issued an order in the above-referenced dockets initiating a proceeding in Docket No. EL05-60-000 under section 206 of the Federal Power Act, and directing PJM to explain, within 30 days from the date of issuance of the Commission's order, the restudy procedures for generation and transmission interconnection projects. 110 FERC ¶ 61,099 (2005).

The refund effective date in Docket No. EL05-60-000, established pursuant to section 206 of the Federal Power Act, will be 60 days following publication of this notice in the Federal Register.

Magalie R. Salas,
Secretary.

[FR Doc. E5-720 Filed 2-22-05; 8:45 am]

BILLING CODE 6717-01-P